DEPARTMENT OF TRANSPORTATION

Federal Aviation Administration

14 CFR Part 39

[Docket No. FAA-2022-0014; Project Identifier AD-2021-00114-A; Amendment 39-22006; AD 2022-08-03]

RIN 2120-AA64

Airworthiness Directives; Textron Aviation Inc. (Type Certificate Previously Held by Cessna Aircraft Company) Airplanes

AGENCY: Federal Aviation Administration (FAA), DOT.

ACTION: Final rule.

SUMMARY: The FAA is adopting a new airworthiness directive (AD) for certain Textron Aviation Inc. (type certificate previously held by Cessna Aircraft Company) (Textron) Model 120 and 140 airplanes and all Model 140A airplanes. This AD was prompted by reports of seat belt center bracket failures from overstress. This AD requires determining if the seat belt center bracket is made of steel and replacing any non-steel brackets. The FAA is issuing this AD to address the unsafe condition on these products.

DATES: This AD is effective May 17, 2022.

ADDRESSES: For service information identified in this final rule, contact Textron Aviation Inc., One Cessna Blvd., Wichita, KS 67215; phone: (316) 517-5800; email: customercare@txtav.com; website: https://support.cessna.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0014; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Bobbie Kroetch, Aviation Safety Engineer, Wichita ACO Branch, FAA, 1801 Airport Road, Wichita, KS 67209; phone: (316) 946-4155; email: bobbie.kroetch@faa.gov or Wichita-COS@faa.gov.

SUPPLEMENTARY INFORMATION:

Background

The FAA issued a notice of proposed rulemaking (NPRM) to amend 14 CFR part 39 by adding an AD that would apply to certain serial-numbered Textron (type certificate previously held by Cessna Aircraft Company) Model 120 and 140 airplanes and all Model 140A airplanes. The NPRM published in the Federal Register on January 27, 2022 (87 FR 4168). The NPRM was prompted by reports of seat belt center bracket failures. Analysis of the failures determined the original aluminum seat belt center bracket does not have sufficient strength and can fail due to overstress during incidents and accidents. In the NPRM, the FAA proposed to require determining if the seat belt center bracket is made of steel and replacing any non-steel brackets. The FAA is issuing this AD to prevent failure of the seat belt center bracket, which could lead to failure of the seat belt restraint system and injury to occupants.

Discussion of Final Airworthiness Directive

Comments

The FAA received no comments on the NPRM or on the determination of the costs.

Conclusion

The FAA reviewed the relevant data and determined that air safety requires adopting this AD as proposed. Accordingly, the FAA is issuing this AD to address the unsafe condition on these products. This AD is adopted as proposed in the NPRM.

Related Service Information

The FAA reviewed Cessna Single Engine Service Bulletin SEB-25-03, dated February 17, 2015. This service information specifies the location of the affected seat belt center bracket. This service information also contains a figure depicting the location of the seatbelt center bracket.

This service information is reasonably available because the interested parties have access to it through their normal course of business or by the means identified in the ADDRESSES section.

Costs of Compliance

The FAA estimates that this AD affects 2,033 airplanes of U.S. registry.

The FAA estimates the following costs to comply with this AD:

Estimated Costs
Action | Labor cost | Parts cost | Cost per airplane | Cost on U.S. operators
Determine material of the seat belt center bracket | 0.25 work-hour × $85 per hour = $21.25 | Not applicable | $21.25 | $43,201.25

The FAA estimates the following costs to do any necessary replacements that may be required. The agency has no way of determining the number of airplanes that might need these replacements:

On-Condition Costs
Action | Labor cost | Parts cost | Cost per airplane
Replace any non-steel seat belt center bracket | 0.75 work-hour × $85 per hour = $63.75 | $79 | $142.75

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-08-03 Textron Aviation Inc. (Type Certificate previously held by Cessna Aircraft Company): Amendment 39-22006; Docket No. FAA-2022-0014; Project Identifier AD-2021-00114-A.

(a) Effective Date

This airworthiness directive (AD) is effective May 17, 2022.

(b) Affected ADs

None.

(c) Applicability

This AD applies to Textron Aviation Inc. (Type Certificate previously held by Cessna Aircraft Company) Model 120 and 140 airplanes, serial numbers (S/Ns) 10070 through 15075, and Model 140A airplanes, all serial numbers, certificated in any category.

(d) Subject

Joint Aircraft System Component (JASC) Code 2510, Flight Compartment Equipment.

(e) Unsafe Condition

This AD was prompted by reports of seat belt center bracket failures from overstress. The FAA is issuing this AD to prevent failure of the seat belt center brackets. The unsafe condition, if not addressed, could result in failure of the seat belt center bracket, which could lead to failure of the seat belt restraint system and injury to occupants.

(f) Compliance

Comply with this AD within the compliance times specified, unless already done.

(g) Required Actions

(1) Within 12 months after the effective date of this AD, determine if the seatbelt center bracket located between the two seats is made of steel by placing a magnet on the center of the bracket. This action may be performed by the owner/operator (pilot) holding at least a private pilot certificate and must be entered into the aircraft records showing compliance with this AD in accordance with 14 CFR 43.9(a)(1) through (4) and 14 CFR 91.417(a)(2)(v). The record must be maintained as required by 14 CFR 91.417. This authority is not applicable to aircraft being operated under 14 CFR part 119.

(i) If the seat belt center bracket is made of steel, no additional action is required.

(ii) If the seat belt center bracket is not made of steel, within 12 months after the effective date of this AD, replace with a steel part number (P/N) 0425132 seat belt center bracket.

(2) As of the effective date of this AD, do not install a seat belt center bracket P/N 0425132 that is not made of steel on any airplane.

(h) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD.

(2) Before using any approved AMOC, notify your appropriate principal inspector, or lacking a principal inspector, the manager of the local flight standards district office/certificate holding district office.

(i) Related Information

For more information about this AD, contact Bobbie Kroetch, Aviation Safety Engineer, Wichita ACO Branch, FAA, 1801 Airport Road, Wichita, KS 67209; phone: (316) 946-4155; email: bobbie.kroetch@faa.gov or Wichita-COS@faa.gov.

(j) Material Incorporated by Reference

None.

Issued on April 6, 2022.
Derek Morgan,
Acting Director, Compliance & Airworthiness Division, Aircraft Certification Service.

[FR Doc. 2022-07749 Filed 4-11-22; 8:45 am]

BILLING CODE 4910-13-P